DEPARTMENT OF ENERGY

Federal Energy Regulatory Commission

Combined Notice of Filings #2

Take notice that the Commission received the following electric rate filings:

Docket Numbers: ER10-1246-003; ER10-1982-004; ER10-1253-003; ER10-1252-003; ER13-764-002; ER12-2498-003; ER12-2499-003.

Applicants: Consolidated Edison Energy, Inc., Consolidated Edison Solutions, Inc., Consolidated Edison Company of New York, Inc., Orange and Rockland Utilities, Inc., CED White River Solar, LLC, Alpaugh 50, LLC, Alpaugh North, LLC.

Description: Notice of non-material change status of Consolidated Edison Energy, Inc., et al.

Filed Date: 8/12/13.

Accession Number: 20130812-5169.

Comments Due: 5 p.m. ET 9/3/13.

Docket Numbers: ER10-2794-014; ER10-2849-013; ER11-2028-014 ER12-1825-012; ER11-3642-012.

Applicants: EDF Trading North America, LLC, EDF Industrial Power Services (NY), LLC, EDF Industrial Power Services (IL), LLC, EDF Industrial Power Services (CA), LLC, EDF Industrial Power Services (OH), LLC, Tanner Street Generation, LLC.

Description: Notice of Non-Material Change in Status of EDF Trading North America, LLC, et al.

Filed Date: 8/12/13.

Accession Number: 20130812-5171.

Comments Due: 5 p.m. ET 9/3/13.

Docket Numbers: ER12-480-006.

Applicants: Midcontinent Independent System Operator, Inc.

Description: 08-12-13 Entergy Cost Allocation Transition Compliance to be effective 6/1/2013.

Filed Date: 8/12/13.

Accession Number: 20130812-5133.

Comments Due: 5 p.m. ET 9/3/13.

Docket Numbers: ER13-1851-002.

Applicants: ISO New England Inc.

Description: Errata to Emer. Amend. to Pending Winter 2013-14 Rel. Program to be effective 9/6/2013.

Filed Date: 8/12/13.

Accession Number: 20130812-5177.

Comments Due: 5 p.m. ET 8/19/13.

Docket Numbers: ER13-2144-000.

Applicants: Southern California Edison Company.

Description: GIA and Distribution Service Agreement with Axio Power Holdings LLC to be effective 8/13/2013.

Filed Date: 8/12/13.

Accession Number: 20130812-5002.

Comments Due: 5 p.m. ET 9/3/13.

Docket Numbers: ER13-2145-000.

Applicants: ISO New England Inc.

Description: ISO New England Inc. submits Capital Budget and Capital Budget Quarterly Filing for Second Quarter of 2013.

Filed Date: 8/12/13.

Accession Number: 20130812-5162.

Comments Due: 5 p.m. ET 9/3/13.

Docket Numbers: ER13-2146-000.

Applicants: Wabash Valley Power Association, Inc.

Description: Amendments to Rate Schedules to be effective 9/15/2013.

Filed Date: 8/12/13.

Accession Number: 20130812-5190.

Comments Due: 5 p.m. ET 9/3/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 12, 2013.
Nathaniel J. Davis, Sr.,
Deputy Secretary.

[FR Doc. 2013-20092 Filed 8-16-13; 8:45 am]

BILLING CODE 6717-01-P